DEPARTMENT OF ENERGY

Federal Energy Regulatory Commission

[Docket Nos. RP00-634-000 and CP97-193-004]

Transcontinental Gas Pipe Line Corporation; Notice of Compliance Filing

October 12, 2000.

Take notice that on September 29, 2000, Transcontinental Gas Pipe Line Corporation (Transco) tendered for filing as part of its FERC Gas Tariff, Third Revised Volume No. 1, certain revised tariff sheets listed on Appendix A to the filing, with an effective date of November 1, 2000.

Trancso states that the filing is being filed to adjust the initial reservation rate surcharge authorized by the Commission's Preliminary Determination on Non-Environmental Issues” issued May 30, 1997 in Docket No. CP97-193-000. The May 30 Order and Exhibit P to the application required Transco to file to adjust the surcharge effective no later than three years from the date of the last adjustment, to reflect changes in the reserve for depreciation, deferred income taxes, associated state and federal income taxes, and firm transportation billing determinants under the firm transportation service agreements between Transco and Piedmont, if Transco has not placed into effect a general change in system rates pursuant to a rate proceeding under the NGA within any three-year period during the term of the surcharge. Therefore in order to comply with the approved reservation rate surcharge methodology, Transco states that it is including in the filing an adjustment to the surcharge, as discussed above, to be effective November 1, 2000.

Transco states that copies of the filing are being mailed to each of its SouthCoast customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-26685 Filed 10-17-00; 8:45 am]

BILLING CODE 6717-01-M